DEPARTMENT OF COMMERCE

National Oceanic and Atmospheric Administration

[I.D. 092204C]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Joint Herring Oversight and Advisory Panel and Groundfish Oversight Committee and Advisory Panel in October, 2004 to consider actions affecting New England fisheries in the exclusive economic zone (EEZ). Recommendations from these groups will be brought to the full Council for formal consideration and action, if appropriate.

DATES: The meetings will be held on October 14, 21 & 22, 2004. See SUPPLEMENTARY INFORMATION for specific dates and times.

ADDRESSES: The meetings will be held in Portland, ME and Mansfield, MA. See SUPPLEMENTARY INFORMATION for specific locations.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Meeting Dates and Agendas

Thursday, October 14, 2004 at 9:30 a.m. — Joint Herring Oversight Committee and Advisory Panel Meeting.

Location: The meeting will be held at the Eastland Park Hotel, 157 High Street, Portland, ME 04101; telephone: (207) 775-5411.

The Herring Committee and Advisory Panel will continue work on the development of alternatives for inclusion in the Draft Supplemental Environmental Impact Statement (DSEIS) for Amendment 1 to the Herring Fishery Management Plan (FMP). The Committee and Advisory Panel will review Draft Amendment 1 alternatives (“strawman”) developed by the Herring Plan Development Team (PDT) and Council staff, as well as any related Herring PDT and Council staff recommendations. The Committee will consider Herring Advisory Panel input and develop recommendations regarding the range of alternatives to be included in the Amendment 1 DSEIS. The Committee and Advisory Panel also will receive an update on the development of options for inclusion in Framework Adjustment 40B to the Northeast Multispecies (Groundfish) FMP, which may prohibit fishing for herring in the groundfish year-round closed areas.

Thursday, October 21, 2004 at 9:30 a.m. — Groundfish Advisory Panel Meeting.

Location: Holiday Inn, 1 Newbury Street, Peabody, MA 01960; telephone: (978) 535-4600.

The Groundfish Advisory Panel will meet to review draft Framework 40B (FW 40B) to the Northeast Multispecies Fishery Management Plan (FMP). FW 40B will consider modifying the days-at-sea (DAS) leasing and transfer programs, creating a special access program (SAP) to target Georges Bank haddock and a SAP to target GOM haddock, modifying the CAII Georges Bank yellowtail flounder SAP, restricting herring fishing in groundfish mortality closed areas, allocating a minimum number of Category B (reserve) DAS to permits that did not receive any DAS under Amendment 13 allocations, modifying incidental catch TACs, changing provisions of the Georges Bank Cod Hook Sector, and providing DAS credit for vessels that standby an entangled large whale. The Panel will review the proposed measures and analyses of the impacts of those measures. They will develop recommendations for the Groundfish Oversight Committee's consideration and may also consider other business.

Friday, October 22, 2004 at 9:30 a.m. — Groundfish Oversight Committee Meeting.

Location: Holiday Inn, 1 Newbury Street, Peabody, MA 01960; telephone: (978) 535-4600.

The Groundfish Oversight Committee will meet to review draft Framework 40B (FW 40B) to the Northeast Multispecies Fishery Management Plan (FMP). FW 40B will consider modifying the days-at-sea (DAS) leasing and transfer programs, creating a special access program (SAP) to target Georges Bank haddock and a SAP to target GOM haddock, modifying the CAII Georges Bank yellowtail flounder SAP, restricting herring fishing in groundfish mortality closed areas, allocating a minimum number of Category B (reserve) DAS to permits that did not receive any DAS under Amendment 13 allocations, modifying incidental catch TACs, changing provisions of the Georges Bank Cod Hook Sector, and providing DAS credit for vessels that standby an entangled large whale. The Committee will receive the report of the Advisory Panel and review the proposed measures and analyses of the impacts of those measures. They will develop recommendations for the Council's consideration, which may include the identification of preferred alternatives and/or modifications to the specific measures. The Committee will also review a Groundfish Plan Development Team evaluation of the mortality impacts of proposed experimental fishing impacts on mortality targets. The Committee will meet in a closed session to review applications to the Council's Groundfish Advisory Panel, and may consider other business.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: September 23, 2004.
Alan D. Risenhoover,
Acting Director, Office of Sustainable Fisheries, National Marine Fisheries Service.

[FR Doc. E4-2400 Filed 9-27-04; 8:45 am]

BILLING CODE 3510-22-S